DEPARTMENT OF ENERGY

Federal Energy Regulatory Commission

Combined Notice of Filings #2

Take notice that the Commission received the following exempt wholesale generator filings:

Docket Numbers: EG25-375-000.

Applicants: Big Cajun I Units I and II LLC.

Description: Big Cajun I Units I and II LLC submits Errata to the 07/01/2025 Notice of Self-Certification of Exempt Wholesale Generator Status.

Filed Date: 7/2/25.

Accession Number: 20250702-5111.

Comment Date: 5 p.m. ET 7/23/25.

Docket Numbers: EG25-376-000.

Applicants: Biscayne Falls SPV, LLC.

Description: Biscayne Falls SPV, LLC submits Notice of Self-Certification of Exempt Wholesale Generator Status.

Filed Date: 7/2/25.

Accession Number: 20250702-5146.

Comment Date: 5 p.m. ET 7/23/25.

Take notice that the Commission received the following electric rate filings:

Docket Numbers: ER10-2249-012.

Applicants: Portland General Electric Company.

Description: Updated Triennial Market Power Analysis for Northwest Region of Portland General Electric Company.

Filed Date: 6/30/25.

Accession Number: 20250630-5347.

Comment Date: 5 p.m. ET 8/29/25.

Docket Numbers: ER10-2818-014; ER10-2806-014.

Applicants: TransAlta Energy Marketing (U.S.) Inc., TransAlta Energy Marketing Corporation.

Description: Triennial Market Power Analysis for Southwest Region of TransAlta Energy Marketing Corporation, et al.

Filed Date: 6/30/25.

Accession Number: 20250630-5339.

Comment Date: 5 p.m. ET 8/29/25.

Docket Numbers: ER11-2508-029; ER19-1417-004; ER20-2047-003; ER21-568-002.

Applicants: Lanyard Power Holdings, LLC, Ormond Beach Power, LLC, GenOn Power Midwest, LP, GenOn Energy Management, LLC.

Description: Updated Triennial Market Power Analysis for Southwest Region of GenOn Energy Management, LLC, et al.

Filed Date: 6/30/25.

Accession Number: 20250630-5355.

Comment Date: 5 p.m. ET 8/29/25.

Docket Numbers: ER13-1069-024; ER10-1484-035; ER12-2381-021.

Applicants: MP2 Energy NE LLC, Shell Energy North America (US), L.P., MP2 Energy LLC.

Description: Updated Triennial Market Power Analysis for Southwest Region of MP2 Energy LLC, et al.

Filed Date: 6/30/25.

Accession Number: 20250630-5342.

Comment Date: 5 p.m. ET 8/29/25.

Docket Numbers: ER13-1865-007; ER13-1847-001.

Applicants: Watson Cogeneration Company, Tesoro Refining & Marketing Company LLC.

Description: Updated Triennial Market Power Analysis for Southwest Region of Tesoro Refining & Marketing Company LLC, et al.

Filed Date: 6/30/25.

Accession Number: 20250630-5350.

Comment Date: 5 p.m. ET 8/29/25.

Docket Numbers: ER16-2044-005.

Applicants: Elk Hills Power, LLC.

Description: Triennial Market Power Analysis for Southwest Region of Elk Hills Power, LLC.

Filed Date: 6/30/25.

Accession Number: 20250630-5341.

Comment Date: 5 p.m. ET 8/29/25.

Docket Numbers: ER18-1778-002.

Applicants: CFE International LLC.

Description: Updated Triennial Market Power Analysis for Southwest Region of CFE International LLC.

Filed Date: 6/30/25.

Accession Number: 20250630-5354.

Comment Date: 5 p.m. ET 8/29/25.

Docket Numbers: ER18-2511-010.

Applicants: NorthWestern Corporation.

Description: Triennial Market Power Analysis for Northwest Region of NorthWestern Corporation.

Filed Date: 6/30/25.

Accession Number: 20250630-5344.

Comment Date: 5 p.m. ET 8/29/25.

Docket Numbers: ER19-1217-006.

Applicants: Montana-Dakota Utilities Co.

Description: Supplement to 01/30/2025, Notice of Non-Material Change in Status of Montana-Dakota Utilities Co.

Filed Date: 6/30/25.

Accession Number: 20250630-5353.

Comment Date: 5 p.m. ET 7/21/25.

Docket Numbers: ER20-1604-004; ER10-2359-013.

Applicants: Sunrise Power Company, LLC, EF Oxnard LLC.

Description: Updated Triennial Market Power Analysis for Southwest Region of EF Oxnard LLC, et al.

Filed Date: 6/30/25.

Accession Number: 20250630-5335.

Comment Date: 5 p.m. ET 8/29/25.

Docket Numbers: ER20-2590-003.

Applicants: Basin Electric Power Cooperative.

Description: Triennial Market Power Analysis for Northwest Region of Basin Electric Power Cooperative.

Filed Date: 6/30/25.

Accession Number: 20250630-5338.

Comment Date: 5 p.m. ET 8/29/25.

Docket Numbers: ER22-2192-004; ER13-1816-025; ER14-1934-010; ER14-1935-010; ER15-1020-008; ER20-242-007; ER20-245-007; ER19-1109-001; ER24-1339-002; ER24-1340-002; ER24-1591-001; ER24-1593-002.

Applicants: Randolph Solar Park LLC, Flatland Storage LLC, EDPR Scarlet II BESS LLC, EDPR Scarlet II LLC, Windhub Solar A, LLC, Sun Streams, LLC, Sunshine Valley Solar, LLC, Rising Tree Wind Farm III LLC, Rising Tree Wind Farm II LLC, Rising Tree Wind Farm LLC, Sustaining Power Solutions LLC, EDPR Scarlet I LLC.

Description: Updated Triennial Market Power Analysis for Southwest Region of EDPR Scarlet I LLC, et al.

Filed Date: 6/30/25.

Accession Number: 20250630-5352.

Comment Date: 5 p.m. ET 8/29/25.

Docket Numbers: ER22-2230-001; ER10-2504-014; ER12-610-014; ER12-1931-013; ER13-1562-012; ER19-2260-002; ER22-2231-001; ER22-2232-001; ER22-2233-001; ER22-2234-001; ER22-2235-001; ER22-2236-001; ER24-2013-001; ER25-1299-001.

Applicants: Milagro Solar I, LLC, Desert Quartzite, LLC, Maverick Solar 4, LLC, Maverick Solar, LLC, Desert Harvest II LLC, Desert Harvest, LLC, Maverick Solar 7, LLC, Maverick Solar 6, LLC, Valentine Solar, LLC, Catalina Solar Lessee, LLC, Pacific Wind Lessee, LLC, Shiloh III Lessee, LLC, Shiloh Wind Project 2, LLC, BigBeau Solar, LLC.

Description: Triennial Market Power Analysis for Southwest Region of BigBeau Solar, LLC, et al.

Filed Date: 6/27/25.

Accession Number: 20250627-5314.

Comment Date: 5 p.m. ET 8/26/25.

Docket Numbers: ER24-773-003.

Applicants: Escalante Solar, LLC.

Description: Updated Triennial Market Power Analysis for Southwest Region of Escalante Solar, LLC.

Filed Date: 6/30/25.

Accession Number: 20250630-5346.

Comment Date: 5 p.m. ET 8/29/25.

Docket Numbers: ER24-2004-000; EL25-99-000.

Applicants: Deseret Generation & Transmission Co-operative, Inc., et al. v. PacifiCorp, PacifiCorp.

Description: Joint Formal Challenge and Complaint of Deseret Generation & Transmission Co-operative, Inc., Utah Associated Municipal Power Systems, and Utah Municipal Power Agency v. PacifiCorp.

Filed Date: 7/2/25.

Accession Number: 20250702-5096.

Comment Date: 5 p.m. ET 8/1/25.

Docket Numbers: ER24-2690-002.

Applicants: PJM Interconnection, L.L.C.

Description: Compliance filing: Compliance Filing to June 2, 2025 Order to be effective 6/2/2025.

Filed Date: 7/2/25.

Accession Number: 20250702-5115.

Comment Date: 5 p.m. ET 7/23/25.

Docket Numbers: ER25-1233-001; ER25-1234-001; ER25-1235-001; ER25-1237-001.

Applicants: Algonquin SKIC 20 Solar, LLC, Algonquin SKIC 10 Solar, LLC, Algonquin Power Sanger LLC, Algonquin Energy Services Inc.

Description: Updated Triennial Market Power Analysis for Southwest Region of Clearlight Energy Services LLC, et al.

Filed Date: 6/30/25.

Accession Number: 20250630-5340.

Comment Date: 5 p.m. ET 8/29/25.

Docket Numbers: ER25-2764-000.

Applicants: Big Deer Wind, LLC.

Description: Request for Limited and Prospective Waiver, et al. of Big Deer Wind, LLC.

Filed Date: 7/1/25.

Accession Number: 20250701-5387.

Comment Date: 5 p.m. ET 7/22/25.

Docket Numbers: ER25-2768-000.

Applicants: Public Service Company of Oklahoma.

Description: 205(d) Rate Filing: Notice of Succession and Request for Extension of Time to be effective 6/5/2025.

Filed Date: 7/2/25.

Accession Number: 20250702-5089.

Comment Date: 5 p.m. ET 7/23/25.

Docket Numbers: ER25-2769-000.

Applicants: NorthWestern Corporation.

Description: 205(d) Rate Filing: RS 339—Cert of Concurrence PSE Dynamic Transfer BA to be effective 7/1/2025.

Filed Date: 7/2/25.

Accession Number: 20250702-5093.

Comment Date: 5 p.m. ET 7/23/25.

Docket Numbers: ER25-2770-000.

Applicants: Evergreen Gas & Electric, LLC.

Description: Initial Rate Filing: Application for Market-Based Rate Authorization to be effective 8/31/2025.

Filed Date: 7/2/25.

Accession Number: 20250702-5100.

Comment Date: 5 p.m. ET 7/23/25.

Docket Numbers: ER25-2771-000.

Applicants: Consumers Energy Company.

Description: Tariff Amendment: Notice of Termination—Blackstart SAs and RS for Blackstart Service to be effective 9/1/2025.

Filed Date: 7/2/25.

Accession Number: 20250702-5101.

Comment Date: 5 p.m. ET 7/23/25.

Docket Numbers: ER25-2772-000.

Applicants: Oak Solar, LLC.

Description: 205(d) Rate Filing: Amended Co-Tenancy and SFA 2025 to be effective 7/3/2025.

Filed Date: 7/2/25.

Accession Number: 20250702-5103.

Comment Date: 5 p.m. ET 7/23/25.

Docket Numbers: ER25-2773-000.

Applicants: Alabama Power Company, Georgia Power Company, Mississippi Power Company.

Description: 205(d) Rate Filing: Alabama Power Company submits tariff filing per 35.13(a)(2)(iii: Attachment S (MPCo) 2025 Updated Depreciation Rates Filing to be effective 1/1/2025.

Filed Date: 7/2/25.

Accession Number: 20250702-5105.

Comment Date: 5 p.m. ET 7/23/25.

Docket Numbers: ER25-2774-000.

Applicants: Dominion Energy South Carolina, Inc.

Description: Compliance filing: Compliance Filing-new docket to be effective 2/27/2026.

Filed Date: 7/2/25.

Accession Number: 20250702-5108.

Comment Date: 5 p.m. ET 7/23/25.

Docket Numbers: ER25-2775-000.

Applicants: Oak Lessee, LLC.

Description: Initial Rate Filing: Certificate of Concurrence Oak Solar to be effective 7/3/2025.

Filed Date: 7/2/25.

Accession Number: 20250702-5113.

Comment Date: 5 p.m. ET 7/23/25.

Docket Numbers: ER25-2776-000.

Applicants: Biscayne Falls SPV, LLC.

Description: Initial Rate Filing: Application for Market Based Rate Authority to be effective 9/2/2025.

Filed Date: 7/2/25.

Accession Number: 20250702-5129.

Comment Date: 5 p.m. ET 7/23/25.

Docket Numbers: ER25-2777-000.

Applicants: Southwest Power Pool, Inc.

Description: 205(d) Rate Filing: 1636R33 Kansas Electric Power Cooperative, Inc. NITSA and NOA to be effective 9/1/2025.

Filed Date: 7/2/25.

Accession Number: 20250702-5147.

Comment Date: 5 p.m. ET 7/23/25.

Docket Numbers: ER25-2778-000.

Applicants: Tri-State Generation and Transmission Association, Inc.

Description: 205(d) Rate Filing: Amendment to Rate Schedule FERC No. 394 to be effective 9/1/2025.

Filed Date: 7/2/25.

Accession Number: 20250702-5151.

Comment Date: 5 p.m. ET 7/23/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 2, 2025.
Debbie-Anne A. Reese,
Secretary.

[FR Doc. 2025-12650 Filed 7-7-25; 8:45 am]

BILLING CODE 6717-01-P